DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of December 1, 2019 through December 31, 2019. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely;

AND (ii and iii below)

(ii) (I) Imports of articles or services like or directly competitive with articles produced or services supplied by such firm have increased; OR

(II)(aa) Imports of articles like or directly competitive with articles into which one or more component parts produced by such firm are directly incorporated, have increased; OR

(II)(bb) Imports of articles like or directly competitive with articles which are produced directly using the services supplied by such firm, have increased; OR

(III) Imports of articles directly incorporating one or more component parts produced outside the United States that are like or directly competitive with imports of articles incorporating one or more component parts produced by such firm have increased;

AND

(iii) The increase in imports described in clause (ii) contributed importantly to such workers' separation or threat of separation and to the decline in the sales or production of such firm; OR

(B) Shift in Production or Services to a Foreign Country Path OR Acquisition of Articles or Services from a Foreign Country Path:

(i) (I) There has been a shift by such workers' firm to a foreign country in the production of articles or the supply of services like or directly competitive with articles which are produced or services which are supplied by such firm; OR

(II) Such workers' firm has acquired from a foreign country articles or services that are like or directly competitive with articles which are produced or services which are supplied by such firm;

AND

(ii) The shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) The workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) Either—

(A) The workers' firm is a supplier and the component parts it supplied to the firm described in paragraph (2) accounted for at least 20 percent of the production or sales of the workers' firm; OR

(B) A loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) An affirmative determination of serious injury or threat thereof under section 202(b)(1) of the Act (19 U.S.C. 2252(b)(1)); OR

(B) An affirmative determination of market disruption or threat thereof under section 421(b)(1)of the Act (19 U.S.C. 2436(b)(1)); OR

(C) An affirmative final determination of material injury or threat thereof under section 705(b)(1)(A) or 735(b)(1)(A) of the Tariff Act of 1930 (19 U.S.C. 1671d(b)(1)(A) and 1673d(b)(1)(A));

AND

(2) The petition is filed during the 1-year period beginning on the date on which—

(A) A summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) Notice of an affirmative determination described in subparagraph (B) or (C)of paragraph (1) is published in the Federal Register;

AND

(3) The workers have become totally or partially separated from the workers' firm within—

(A) The 1-year period described in paragraph (2); OR

(B) Notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
94,690 | Tosoh Quartz, Inc., Tosah Corporation-U.S. Operations | Portland, OR | April 3, 2018.
94,923 | Theis Precision Steel | Bristol, CT | June 20, 2018.
95,042 | Woodcor America, Inc. dba Cedar America | Mountain View, AR | August 5, 2018.
95,214 | Roseburg Forest Products, Dillard Plywood Division | Dillard, OR | December 28, 2018.

The following certifications have been issued. The requirements of Section 222(a)(2)(B) (Shift in Production or Services to a Foreign Country Path or Acquisition of Articles or Services from a Foreign Country Path) of the Trade Act have been met.

TA-W No. | Subject firm | Location | Impact date
94,783 | Sitel Operating Corporation, Sitel LLC, Sitel Worldwide Corporation, Horizon HR Services | Albuquerque, NM | May 3, 2018.
95,104 | Ricoh USA, Inc., IT Infrastructure division, Ricoh Americas Holdings Inc | Malvern, PA | August 21, 2018.
95,104A | Ricoh USA, Inc., IT Infrastructure division, Ricoh Americas Holdings Inc | Boulder, CO | August 21, 2018.
95,104B | Ricoh USA, Inc., IT Infrastructure division, Ricoh Americas Holdings Inc | Buffalo, NY | August 21, 2018.
95,104C | Ricoh USA, Inc., IT Infrastructure division, Ricoh Americas Holdings Inc | Chicago, IL | August 21, 2018.
95,104D | Ricoh USA, Inc., IT Infrastructure division, Ricoh Americas Holdings Inc | Concord, CA | August 21, 2018.
95,104E | Ricoh USA, Inc., IT Infrastructure division, Ricoh Americas Holdings Inc | Duluth, GA | August 21, 2018.
95,104F | Ricoh USA, Inc., IT Infrastructure division, Ricoh Americas Holdings Inc | Fenton, MO | August 21, 2018.
95,104G | Ricoh USA, Inc., IT Infrastructure division, Ricoh Americas Holdings Inc | Houston, TX | August 21, 2018.
95,104H | Ricoh USA, Inc., IT Infrastructure division, Ricoh Americas Holdings Inc | Irvine, CA | August 21, 2018.
95,104I | Ricoh USA, Inc., IT Infrastructure division, Ricoh Americas Holdings Inc | Lawrenceville, GA | August 21, 2018.
95,104J | Ricoh USA, Inc., IT Infrastructure division, Ricoh Americas Holdings Inc | Macon, GA | August 21, 2018.
95,104K | Ricoh USA, Inc., IT Infrastructure division, Ricoh Americas Holdings Inc | Maitland, FL | August 21, 2018.
95,104L | Ricoh USA, Inc., IT Infrastructure division, Ricoh Americas Holdings Inc | Nashville, TN | August 21, 2018.
95,104M | Ricoh USA, Inc., IT Infrastructure division, Ricoh Americas Holdings Inc | Phoenix, AZ | August 21, 2018.
95,104N | Ricoh USA, Inc., IT Infrastructure division, Ricoh Americas Holdings Inc | Tucker, GA | August 21, 2018.
95,104O | Ricoh USA, Inc., IT Infrastructure division, Ricoh Americas Holdings Inc | Wayne, PA | August 21, 2018.
95,104P | Ricoh USA, Inc., IT Infrastructure division, Ricoh Americas Holdings Inc | West Caldwell, NJ | August 21, 2018.
95,121 | Bank of the West, BancWest Holding, IT Application Support Group, Allegis Global Solutions | Omaha, NE | August 26, 2018.
95,147 | State Street Bank & Trust Co., Legal—Global Markets Center of Excellence, State Street Corporation | Boston, MA | September 4, 2018.
95,156 | XP Power LLC, Aerotek, Blue Ribbon, Sourced Staffing | Minden, NV | August 28, 2018.
95,164 | State Street Bank and Trust Company, Private Equity Operations, State Street Corporation | Boston, MA | September 9, 2018.
95,170 | CreativeDrive, Inc., Sandbox Studio, LLC | Portland, OR | September 10, 2018.
95,188 | State Street Corporation, Tax Department | North Quincy, MA | September 16, 2018.
95,205 | Prysmian Cables and Systems USA, LLC, Draka Cableteq USA Inc., Energy division, Team Employment, ManpowerGroup | Hutchinson, KS | September 23, 2018.
95,235 | AVX Filters Corporation, Medical division, AVX Corporation | Sun Valley, CA | September 30, 2018.
95,245 | ABB Inc., Industrial Automation division, Pontoon Solutions | Lewisburg, WV | October 1, 2018.
95,250 | Dagoba Organic Chocolate, The Hershey Company, Express Pros | Ashland, OR | October 3, 2018.
95,263 | Nokia of America Corporation, Nokia, Nokia Solutions & Networks LLC, Alcatel-Lucent USA Inc | Coppell, TX | October 8, 2018.
95,268 | Tri Star Electronics International, Inc., Carlisle Interconnect Technologies division, Skillset Group, Amtec, etc | El Segundo, CA | October 8, 2018.
95,292 | Citibank Credit Services Inc., Global Consumer Technology Operations Digitization & Technology, etc | Kansas City, MO | October 17, 2018.
95,292A | Citibank N.A., GCB O&T Finance, Citicorp LLC, Citigroup Inc | Kansas City, MO | October 17, 2018.
95,298 | Smith & Nephew, Endoscopy Division, Aerotek | Plymouth, MN | October 17, 2018.
95,313 | Del Monte Foods, Inc., Del Monte Foods Holdings Limited | Sleepy Eye, MN | October 22, 2018.
95,338 | Refinitiv US LLC, Refinitiv Holdings Limited, Randstad Professionals US, LLC | Eagan, MN | October 29, 2018.
95,344 | Synchrony Bank, Synchrony Financial | Phoenix, AZ | October 22, 2018.
95,344A | Synchrony Bank, Synchrony Financial | Charlotte, NC | October 22, 2018.
95,344B | Synchrony Bank, Synchrony Financial | Alpharetta, GA | October 22, 2018.
95,344C | Synchrony Bank, Synchrony Financial | Canton, OH | October 22, 2018.
95,344D | Synchrony Bank, Synchrony Financial | Kettering, OH | October 22, 2018.
95,345 | Cascades Tissue Group- Waterford, Cascades Holding US Inc., Cascades Tissue Group, Manpower, Adecco | Waterford, NY | November 1, 2018.
95,350 | Church & Dwight Co., Inc., Advanta Staffing | South Chesterfield, VA | November 4, 2018.
95,361 | Vision Ease, LP, Performance Optics, Hoya Optical Labs of America, Inc., Hoya, Indrotec | Ramsey, MN | November 6, 2018.
95,362 | WaveFront Technology Inc., CalTek Staffing, ESA Temps, Kimco Staffing Services, Inc | Paramount, CA | November 6, 2018.
95,368 | Doctors Foster and Smith Call Center, Petco Animal Supplies, Inc | Rhinelander, WI | November 11, 2018.
95,370 | AvMed, Inc., SantaFe Healthcare Inc., Claims Processing Division | Miami, FL | November 8, 2018.
95,371 | Bank of the West, Commercial Loan Services & Branch Deposit Service Administration, etc | City of Industry, CA | November 12, 2018.
95,383 | Superior Steel Fabrication, Staffing Partners, Elwood Staffing, Northwest Industrial Staffing, etc | Eugene, OR | November 15, 2018.
95,398 | Crescent Bank & Trust, CB&T Holding Corporation, Call Center Division | Chesapeake, VA | November 20, 2018.
95,402 | Echo Bay Minerals Company, Kinross Gold, Spring Clean, Golder Associates, Stotts Construction | Republic, WA | December 2, 2019.
95,402A | On-Site Leased Workers from HR Advantages LLC, Republic Security, WR Tires, 3 Rivers Business Intelligence Solutions, Pine Grove | Republic, WA | November 19, 2018.
95,472 | Inteva Products | Gadsden, AL | December 11, 2018.

The following certifications have been issued. The requirements of Section 222(b) (supplier to a firm whose workers are certified eligible to apply for TAA) of the Trade Act have been met.

TA-W No. | Subject firm | Location | Impact date
95,172 | Sykes Enterprises, Incorporated | Vansant, VA | September 9, 2018.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
95,129 | Farwest Steel Corporation | Eugene, OR. |
95,461 | Northwest Hardwoods Inc., Littlejohn & Company, Waterfield Labor Solutions LLC, etc | Buena Vista, VA. |

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,193 | Manac Trailers USA, Inc | Oran, MO. |

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,392 | Essity North America, LLC, On-Call Staffing | Bellemont, AZ. |
94,837 | HCL America, Inc | Frisco, TX. |
95,090 | Insight Global, LLC, IG Staffing Holdings, LLC, IG Igloo Holdings, Inc., Remote Workers | Atlanta, GA. |
95,143 | AK Steel Corporation, Ashland Works division, AK Steel Holding, Hatzel & Buehler, L.R. Daniels | Ashland, KY. |
95,159 | MMP Enterprises USA Inc | Sidney, NE. |
95,181 | Omega Apparel | Smithville, TN. |
95,273 | Nestle Dreyer's Ice Cream Company, Direct Store Delivery, Nestle USA, Inc | Aberdeen, SD. |
95,275 | Nestle Dreyer's Ice Cream Company, Direct Store Delivery, Nestle USA, Inc | Brooklyn Park, MN. |
95,351 | LZB Manufacturing, Inc., La-Z-Boy West, Merchants Building Maintenance, OS4Labor, Roth Staffing | Redlands, CA. |

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,947 | Conair Corporation | Glendale, AZ. |

The following determinations terminating investigations were issued because the worker group on whose behalf the petition was filed is covered under an existing certification.

TA-W No. | Subject firm | Location | Impact date
95,118 | Ocwen Loan Servicing, LLC, Ocwen Financial, Kelly Vendor Management Services, Securitas, etc | Waterloo, IA. |
95,141 | Ryder Integrated Logistics, Inc., Supply Chain Solutions division, General Motors Lordstown Complex, etc | Warren, OH. |
95,209 | Owens-Brockway Glass Container, Inc | Waco, TX. |
95,403 | Owens-Brockway Glass Container, Inc | Portland, OR. |

I hereby certify that the aforementioned determinations were issued during the period of December 1, 2019 through December 31, 2019. These determinations are available on the Department's website https://www.doleta.gov/tradeact/petitioners/taa_search_form.cfm under the searchable listing determinations or by calling the Office of Trade Adjustment Assistance toll free at 888-365-6822.

Signed at Washington DC, this 9th day of January 2020.
Hope D. Kinglock,
Certifying Officer, Office of Trade Adjustment Assistance.

[FR Doc. 2020-01502 Filed 1-28-20; 8:45 am]

BILLING CODE 4510-FN-P